DEPARTMENT OF HEALTH AND HUMAN SERVICES

Centers for Disease Control and Prevention

[Program Announcement 00092]

Grant Program for the Hale Empowerment and Revitalization Organization (HERO); Notice of Availability of Funds

A. Purpose

The Centers for Disease Control and Prevention (CDC) announces the availability of fiscal year (FY) 2000 funds for a grant program to the Hale Empowerment and Revitalization Organization (HERO). CDC is committed to achieving the health promotion and disease prevention objectives of “Healthy People 2010” a national activity to reduce morbidity and mortality and improve the quality of life. This announcement is related to focus area to increase Access to Quality Health Services. For the conference copy of “Healthy People 2010,” visit the internet site: http://www.health.gov/healthypeople.

The purpose of this program is to increase the health and social status of the population in Hale County, Alabama by eliminating barriers to health and social services. This goal will be attained though the voluntary collaboration of organizations and individuals concerned with the welfare of under-served and disparately affected populations of Hale County, Alabama.

B. Eligible Applicant

Assistance will be provided only to the Hale Empowerment and Revitalization Organization (HERO), Hale County, Alabama. No other applications are solicited. The Conference Report (H.R. Rep. 106-479, at 601 (1999) to the Consolidated Appropriations Act, 2000, Public Law 106-113, directs CDC to fund the Hale County, Alabama, HERO program.

C. Availability of Funds

Approximately $130,000 is available in FY 2000, to fund the Hale Empowerment and Revitalization Organization in Hale County, Alabama. It is expected that the award will begin on or about September 30, 2000, and will be made for a 12-month budget period within a project period of one year. Funding estimates may change.

D. Where To Obtain Additional Information

If you have questions after reviewing the contents of all the documents, business management/technical assistance may be obtained from: Barry Copeland, Grants Management Specialist, Grants Management Branch, Procurement and Grants Office, Centers for Disease Control and Prevention (CDC), Announcement Number 00092, Room 3000, 2920 Brandywine Road, Atlanta, GA 30341-4146, telephone (770) 488-2762, E-mail address: bjc8@cdc.gov.

This and other CDC announcement can be found on the CDC home page on the Internet: http://www.cdc.gov.

For program technical assistance, contact: James B. Holt, M.P.A., Deputy Director, Division of Adult and Community Health, National Center for Chronic Disease Prevention and Health Promotion, Centers for Disease Control and Prevention (CDC), 4770 Buford Highway, NE., Atlanta, GA 30341-3724, telephone: 404-488-5269; E-mail address: jgh4@cdc.gov.

Dated: May 24, 2000.
John L. Williams,
Director, Procurement and Grants Office, Centers for Disease Control and Prevention (CDC).

[FR Doc. 00-13648 Filed 5-31-00; 8:45 am]

BILLING CODE 4163-18-P